DEPARTMENT OF TRANSPORTATION

Federal Transit Administration

Supplemental Environmental Impact Statement for Transit Improvements in the Mid-Coast Corridor of San Diego County, CA

AGENCY: Federal Transit Administration (FTA), DOT.

ACTION: Notice of Intent to Prepare a Supplemental Environmental Impact Statement.

SUMMARY: The FTA and the San Diego Association of Governments (SANDAG) intend to prepare a Supplemental Environmental Impact Statement (SEIS) for transit improvements for the Mid-Coast Corridor Transit Project in San Diego, California. The SEIS will be prepared in accordance with regulations implementing the National Environmental Policy Act (NEPA), and all applicable environmental laws, regulations, and executive orders. The purpose of this Notice of Intent is to alert interested parties regarding the plan to prepare the SEIS, and to provide information on the nature of the proposed transit project, to invite participation in the SEIS process, including comments on the scope of the SEIS proposed in this notice.

DATES: Comment Due Date: Written comments on the scope of the SEIS should be sent to Leslie Blanda, SANDAG New Starts/Environmental/Planning Project Manager, by August 15, 2011.

ADDRESSES: Written comments on the scope of the SEIS should be sent to Leslie Blanda, New Starts/Environmental/Planning Project Manager, San Diego Association of Governments, 401 B Street, Suite 800, San Diego, CA 92101, or e-mailed to her at midcoast@sandag.org. No additional scoping meetings are proposed.

FOR FURTHER INFORMATION CONTACT: Hymie Luden, Transportation Program Specialist, or Debra Jones, Environmental Protection Specialist, Federal Transit Administration, Region IX, 201 Mission Street, Room 1650, San Francisco, CA 94105; telephone: (415) 744-3133; fax: (415) 744-2726; e-mail hymie.luden@dot.gov or debra.jones@dot.gov.

SUPPLEMENTARY INFORMATION:

I. Scoping

The FTA, in cooperation with SANDAG, will examine improved transit service in the Mid-Coast Corridor. Located entirely within the City of San Diego (City), the Mid-Coast Corridor centers on Interstate 5 (I-5) and extends from Downtown San Diego on the south to University City on the north; it is bound by the Pacific Ocean on the west and I-805 and State Route 163 (SR 163) on the east. SANDAG and FTA invite interested individuals, organizations, Native American Tribes and Federal, state, and local agencies to participate in defining the purpose and need for, and refining the scope of the Mid-Coast Corridor Transit Project SEIS.

SANDAG is the lead agency for compliance with the California Environmental Quality Act (CEQA), and a Subsequent Environmental Impact Report (SEIR) is being prepared jointly with the SEIS. During May 2010, SANDAG conducted scoping under CEQA to solicit public and agency comments on the project alternatives to be carried forward. All comments received during the CEQA scoping process will be considered during the preparation of the SEIS and do not need to be resubmitted. A copy of the scoping summary report is available on the SANDAG Web site at: http://www.sandag.org/midcoast. Additional comments should focus on identifying any significant social, economic, or environmental issues related to the proposed alternatives that have not previously been identified.

II. Description of Study Area and Project Need

The study area is located entirely within the City of San Diego (City), centering on Interstate 5 (I-5) extending from Downtown San Diego on the south to University City on the north, bounded by the Pacific Ocean on the west and I-805 and State Route 163 (SR 163) on the east.

Dense population and employment centers currently anchor both the northern and southern ends of the Mid-Coast Corridor, with existing, planned, or potential smart growth centers in between. The SANDAG Regional Comprehensive Plan (July 2004) and the 2030 Regional Transportation Plan (RTP) reference the regional growth forecast that estimates population, housing, land use, and economic growth. Increased density is forecast in Downtown San Diego and in the University of California, San Diego (UCSD) and University Towne Centre (UTC) areas. Increased population and employment will lead to increased travel demand in the corridor.

The existing transit system in the Mid-Coast Corridor does not offer the level of service needed to meet the region's goals for mobility, accessibility, reliability, and efficiency. The COASTER commuter rail service passes through the corridor, but its stations are widely spaced and it does not have a station in close proximity to UCSD or UTC. The existing San Diego Trolley Blue Line currently terminates at the Old Town Transit Center (OTTC). While transit mobility and accessibility are provided by express and local buses, the speed and reliability of bus service are hindered by roadway congestion. With congestion projected to increase in the future, the level of service, reliability, and efficiency of the transit system will all decrease. To meet regional goals, the study area needs a transit system that focuses on key destinations and has the frequency, speed, and reliability to attract new riders.

The purpose of the Mid-Coast Corridor Transit Project is to improve public transit services between University City and Old Town and Downtown San Diego and connect corridor residents with other Trolley lines serving Mission Valley, South County communities to the U.S.-Mexico International Border, and East County communities to Santee, thereby enhancing direct public access to other regional activity centers. The project will improve travel options to employment, education, medical, and retail centers for corridor residents, commuters, and visitors.

III. Alternatives

The transportation alternatives proposed for consideration in this study area include:

• No-Build Alternative—the No Build Alternative would include all of the highway and transit facility improvements identified in the Revenue Constrained Scenario of the SANDAG 2030 RTP except for the extension of the Trolley System to University City.

• Build Alternative—the Build Alternative includes the extension of the Trolley Blue Line from the Santa Fe Depot in Downtown San Diego to UTC, which will provide continuous service on the Trolley Blue Line from San Ysidro Transit Center at the U.S.-Mexico International Border to University City. The Locally Preferred Alternative (LPA) was approved by the SANDAG Board of Directors on July 23, 2010.

The Mid-Coast Corridor Transit Project has been under study and in various phases of state and Federal environmental review since 1990. The project was originally to be developed in two sections. An EIS for the extension from the OTTC north to University City was completed in 2001, and FTA issued the Record of Decision in August 2001.

In April 2005, SANDAG recombined the Balboa Extension with the University City Extension into a single project, extending from the OTTC to University City. The FTA concurred with the SANDAG decision on July 24, 2006.

During 2009 and 2010, SANDAG updated the prior studies and reconsidered a broad range of transit alternatives through a public process. This analysis is documented in the Comparative Evaluation of Alternatives Report (SANDAG, 2010). SANDAG conducted scoping under CEQA. All comments received during the CEQA scoping process will be considered during the preparation of this SEIS/SEIR. Following the conclusion of the CEQA scoping process, the SANDAG Board reconfirmed the LPA as an extension of the Trolley system from the OTTC to UTC on July 23, 2010.

The 1995 AA/DEIS/DEIR and the 2010 Comparative Evaluation of Alternatives Report are available for public and agency review on the SANDAG Web site at http://www.sandag.org/midcoast. They are also available for inspection at the SANDAG office, or a CD may be requested by calling (619) 595-5620 or by e-mailing midcoast@sandag.org.

Advanced Scoping Alternatives—As a result of the Alternatives Analysis and updated alternatives evaluation, the LPA includes:

• New double-track alignment extending from a point just south of the San Diego River and north of the existing OTTC to a terminus at the UTC Transit Center in University City, with three alignment variations along Voigt Drive in University City;

• Eight new LRT stations, located at Tecolote Road, Clairemont Drive, Balboa Avenue, Nobel Drive, UCSD West, UCSD East, Executive Drive, and the UTC Transit Center, and a possible additional station at the VA Medical Center; and

• Upgrades to existing systems (including traction power, signaling system, and crossovers) to accommodate all-day 7.5-minute Trolley Blue Line service within the existing right-of-way.

No new maintenance facilities or expansion of existing maintenance facilities would be required to accommodate the new service.

IV. The SEIS Process and the Role of Participating Agencies and the Public

The purpose of the SEIS process is to explore in a public setting potentially significant effects of implementing the proposed action and alternatives on the physical, human, and natural environment. Areas of investigation include, but are not limited to, land use, residential and business displacements, parklands, economic development, community disruptions, environmental justice, aesthetics, noise, wildlife, vegetation, endangered species, air and water quality, energy, electromagnetic fields, wetlands, waterways, floodplains, hazardous waste and materials, and cultural, historic, and archaeological resources. The Draft SEIS will also consider practicable alternatives to proposed fill of Federal waters in accordance with the Clean Water Act and U.S. Army Corps of Engineers regulations. At the conclusion of scoping, SANDAG and FTA will work together to prepare an annotated outline for the SEIS, based on information obtained during the scoping process.

Measures to avoid, minimize, or mitigate any significant adverse impacts will be identified. Regulations implementing NEPA, as well as provisions of the recently enacted Safe, Accountable, Flexible, Efficient Transportation Equity Act: A Legacy for Users (SAFETEA-LU), call for public involvement in the EIS process. Section 6002 of SAFETEA-LU requires that FTA and SANDAG do the following: (1) Extend an invitation to other Federal and non-Federal agencies and Indian tribes that may have an interest in the proposed project to become “participating agencies,” (2) provide an opportunity for involvement by participating agencies and the public in helping to define the purpose and need for a proposed project, as well as the range of alternatives for consideration in the impact statement, and (3) establish a plan for coordinating public and agency participation in and comment on the environmental review process. An invitation to become a participating agency, with the scoping information packet appended, will be extended to other Federal and non-Federal agencies and Indian tribes that may have an interest in the proposed project. It is possible that we may not be able to identify all Federal and non-Federal agencies and Indian tribes that may have such an interest. Any Federal or non-Federal agency or Indian tribe interested in the proposed project that does not receive an invitation to become a participating agency should notify at the earliest opportunity the Project Manager identified above under ADDRESSES.

A comprehensive public involvement program has been developed and a public and agency involvement Coordination Plan will be created. The program includes a project Web site (http://www.sandag.org/midcoast); establishment of a project working group and organizing periodic meetings with that committee; a public hearing on release of the Draft SEIS; and development and distribution of project newsletters. In 2010, SANDAG conducted scoping under CEQA to solicit public and agency comments on the project alternatives to be carried forward. All comments received during the CEQA scoping process will be considered during the preparation of the SEIS and do not need to be resubmitted.

The purposes of and need for the proposed project have been preliminarily identified in this notice. We invite the public and participating agencies to consider the preliminary statement of purposes of and need for the proposed project, as well as the alternatives proposed for consideration. Suggestions for modifications to the statement of purposes of and need for the proposed project and any other alternatives that have not previously been identified and that meet the purposes of and need for the proposed project are welcomed and will be given serious consideration. Comments on potentially significant environmental impacts that may be associated with the proposed project and alternatives that have not previously been identified are also welcomed.

SANDAG is seeking New Starts Funding for the proposed project under 49 U.S.C. 5309 and will therefore be subject to New Starts regulations (49 CFR Part 611). The New Starts regulation requires the submission of specific information in support of a request to initiate preliminary engineering, and this information is normally developed in conjunction with the NEPA process. Pertinent New Start evaluation criteria will be included in the Final SEIS.

V. FTA Procedures

In accordance with 23 CFR 771.105 (a) and 771.133, FTA will comply with all Federal environmental laws, regulations and executive orders applicable to the proposed project during the environmental review process to the maximum extent practicable. These requirements include, but are not limited to, the regulations of the Council on Environmental Quality (CEQ) and FTA implementing NEPA(40 CFR Parts 1500-1508, and 23 CFR Part 771), the project-level air quality conformity regulation of the U.S. Environmental Protection Agency (EPA) (40 CFR part 93), the Section 404(b)(1) of EPA (40 CFR part 230), the regulation implementing Section 106 of the National Historic Preservation Act (36 CFR Part 800); the regulation implementing Section 7 of the Endangered Species Act (50 CFR Part 402); Section 4(f) of the DOT Act (23 CFR 771.135); and the Executive Orders 12898 on environmental justice, 11988 on floodplain management, and 11990 on wetlands.

VI. Paperwork Reduction

The Paperwork Reduction Act seeks, in part, to minimize the cost to the taxpayer of the creation, collection, maintenance, use, dissemination, and disposition of information. Consistent with this goal and with principles of economy and efficiency in government, it is FTA policy to limit insofar as possible distribution of complete printed sets of environmental documents. Accordingly, unless a specific request for a complete printed set of environmental documents is received (preferably at the conclusion of scoping), FTA and its grantees will distribute only the executive summary of the environmental document together with a Compact Disc of the complete environmental document. A complete printed set of the environmental document will be available for review at SANDAG's offices and elsewhere; an electronic copy of the complete environmental document will also be available on SANDAG's Web site.

Issued on: July 12, 2011.
Leslie T. Rogers,
Regional Administrator, Region IX, Federal Transit Administration.

[FR Doc. 2011-17975 Filed 7-18-11; 8:45 am]

BILLING CODE 4910-57-P